DEPARTMENT OF AGRICULTURE

Submission for OMB Review; Comment Request

May 10, 2005.

The Department of Agriculture has submitted the following information collection requirement(s) to OMB for review and clearance under the Paperwork Reduction act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a current valid OMB control number and the agency informs potential persons who are to respond to the collection of information that such persons are not required to respond to the collection of information unless it displays a currently valid OMB control number.

Food and Nutrition Service

Title: Food Stamp Program Employment and Training (E&T) Program.

OMB Control Number: 0584-0339.

Summary of Collection: The Balanced Budget Act of 1997 (Pub. L. 105-33), enacted on August 5, 1997, provided additional Federal Employment and Training funds for fiscal years 1998 through 2002, and targeted 80 percent of all Federal E&T funds to qualifying work activities for able bodied adults without dependents (ABAWDs). Section 6(d) of the Food Stamp Act of 1977, as amended (the Act), and the food stamp regulations at 7 CFR 273.7 require, as a condition of eligibility, that each non-exempt food stamp household member age 16 to 60 be work registered by the State agency at the time of application and once every twelve months thereafter. Each State agency must screen each work registrant to determine whether to refer the individual to its E&T Program. Both the Food Stamp Act and regulations require States to file quarterly reports about their E&T Programs so that the Food and Nutrition Service (FNS) can monitor their performance.

Need and Use of the Information: FNS will collect information using Form FNS-583, E&T Program Activity Report to ensure that the E&T Program is being efficiently and economically operated. If FNS were unable to collect, on a quarterly basis, the data necessary to oversee program operations, FNS could not fulfill this mandate, nor could it initiate timely, effective corrective measures to assure successful State agency program operations.

Description of Respondents: State, local, or tribal government.

Number of Respondents: 53.

Frequency of Responses: Recordkeeping; Reporting: Quarterly; Annually.

Total Burden Hours: 31,721.

Food and Nutrition Service

Title: WIC Financial Management and Participation Report with Addendum.

OMB Control Number: 0584-0045.

Summary of Collection: The Women, Infants and Children Program (WIC) is authorized by Section 17 of the Child Nutrition Act (CNA) of 1966 (42 U.S.C. 1786), as amended. The Food and Nutrition Service (FNS) of USDA administers the WIC Program by awarding cash grants to State agencies (generally State health department). The State agencies award subgrants to local agencies to deliver program benefits and services to eligible participants. State agencies complete the FNS-798 to comply with two separate legislative requirements. The FNS-798 captures the required data and serves as an operational plan for State agencies. FNS must continuously forecast and reevaluate State agencies' funding needs, make timely funding and other management decisions, and assist State agencies witn caseload and funds management. FNS needs the FNS-798A to determine if each State agency has met the statutory nutrition education and breastfeeding promotion and support minimum expenditure requirements found in 42 U.S.C. 1786(h)(3). The FNS-798A shows how much of each State agency's total nutrition services and administration (NSA) expenditures were made for nutrition education and for breastfeeding promotion and support activities.

Need and Use of the Information: FNS will use the information reported each month for program monitoring, funds allocation and management, budget projections, monitoring caseload, policy development, and responding to requests from Congress and the interested public. FNS also uses the data to determine if the State has met the 97 percent performance standard for food and 10 percent performance standard for Nutrition Services Administration.

Description of Respondents: State, local, or tribal government.

Number of Respondents: 88.

Frequency of Responses: Reporting: Monthly.

Total Burden Hours: 4,713.

Ruth Brown,
Departmental Information Collection Clearance Officer.

[FR Doc. 05-9646 Filed 5-13-05; 8:45 am]

BILLING CODE 3410-30-M